NUCLEAR REGULATORY COMMISSION

Sunshine Act Meeting Notice

DATES: Weeks of April 29, May 6, 13, 20, 27, June 3, 2002.

PLACE: Commissioners' Conference Room, 11555 Rockville Pike, Rockville, Maryland.

STATUS: Public and Closed.

MATTERS TO BE CONSIDERED:

Week of April 29, 2002

Tuesday, April 30, 2002

9:30 a.m.—Discussion of Intergovernmental Issues (Closed—Ex. 1)

Wednesday, May 1, 2002

8:55 a.m.—Affirmation Session (Public Meeting) (If needed)

9 a.m.—Briefing on Results of Agency Action Review Meeting—Reactors (Public Meeting) (Contact: Robert Pascarelli, 301-415-1245)

This meeting will be webcast live at the Web address— www.nrc.gov

Week of May 6, 2002—Tentative

There are no meetings scheduled for the Week of May 6, 2002.

Week of May 13, 2002—Tentative

Thursday, May 16, 2002

9:25 a.m.—Affirmation Session (Public Meeting) (if needed)

9:30 a.m.—Meeting with World Association of Nuclear Operators (WANO) (Public Meeting)

This meeting will be webcast live at the Web address— www.nrc.gov

2 p.m.—Discussion of intragovernmental Issues (Closed—Ex. 9)

Week of May 20, 2002—Tentative

There are no meetings scheduled for the Week of May 20, 2002.

Week of May 27, 2002—Tentative

Tuesday, May 28, 2002

9:30 a.m.—Briefing on Nuclear Material Licensee Decommissioning and Bankruptcy Issues (Public Meeting) (Contact: Larry Camper, 301-415-7234)

This meeting will be webcast live at the Web address— www.nrc.gov

Wednesday, May 29, 2002

9:25 a.m.—Affirmation Session (Public Meeting) (If needed)

9:30 a.m.—Briefing on the Status of New Reactor Licensing Activities (Public Meeting) (Contact: Joseph Williams, 301-415-1470)

This meeting will be webcast live at the Web address— www.nrc.gov

Week of June 3, 2002—Tentative

Thursday, June 6, 2002

2 p.m.—Briefing on Strategic Workforce Planning and Human Capital Initiatives (Closed—Ex. 2)

*The schedule for Commission meetings is subject to change on short notice. To verify the status of meetings call (recording)—(301) 415-1292. Contact person for more information: David Louis Gamberoni (301) 415-1651.

The NRC Commission Meeting Schedule can be found on the Internet at: www.nrc.gov/what-we-do/policy-making/schedule.html

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: April 25, 2002.
Sandra M. Joosten,
Executive Assistant, Office of the Secretary.

[FR Doc. 02-10593 Filed 4-25-02; 12:33 pm]

BILLING CODE 7590-01-M